ENVIRONMENTAL PROTECTION AGENCY

[FRL-7925-4]

Lead-Based Paint Activities; State of Washington Lead-Based Paint Program

AGENCY: Environmental Protection Agency.

ACTION: Notice; final approval of the State of Washington Lead-Based Paint Activities Program.

SUMMARY: On June 18, 2004, EPA received an application from the State of Washington requesting authorization to administer a Program in accordance with section 402 of the Toxic Substances Control Act (TSCA). Included in the application was a letter signed June 10, 2004, by the Governor of Washington, stating that the State's Lead-Based Paint Abatement Program is at least as protective of human health and the environment as the Federal program under TSCA section 402. Also, included was a letter from the Attorney General of Washington, certifying that the laws and regulations of the State provided adequate legal authority to administer and enforce TSCA section 402. Washington certifies that its program meets the requirements for approval of a State program under section 404 of TSCA and that Washington has the legal authority and ability to implement the appropriate elements necessary to enforce the program. Therefore, pursuant to section 404, the program is deemed authorized as of the date of submission. Today's notice announces the authorization of the State of Washington Lead-Based Paint Activities Program to apply in the State of Washington effective June 10, 2004.

DATES: The Lead-Based Paint Activities Program authorization was granted to the State of Washington on June 10, 2004.

FOR FURTHER INFORMATION CONTACT: Barbara Ross, Regional Lead Coordinator, Environmental Protection Agency, Region 10, AWT-128, 1200 Sixth Avenue, Seattle, WA 98101; telephone: (206) 553-1985; e-mail address: ross.barbara@epa.gov.

SUPPLEMENTARY INFORMATION:

I. General

A. Does this Notice Apply to Me?

This notice is directed to the public in general. This notice may, however, be of interest to firms and individuals engaged in lead-based paint activities in Washington. Since other entities may also be interested, the Agency has not attempted to describe all the specific entities that may be affected by the notice. If you have any questions regarding the applicability of this notice to a particular entity, consult the person listed under FOR FURTHER INFORMATION CONTACT.

B. Summary

On October 28, 1992, the Housing and Community Development Act of 1992, Public Law 102-550, became law. Title X of that statute was the Residential Lead-Based Paint Hazard Reduction Act of 1992. The Act amended TSCA (15 U.S.C. 2601 et seq.) by adding Title IV (15 U.S.C. 2681-92), titled “Lead Exposure Reduction.”

Section 402 of TSCA (15 U.S.C. 2682) authorizes and directs EPA to promulgate final regulations governing lead-based paint activities in target housing, public and commercial buildings, bridges and other structures. On August 29, 1996 (61 FR 45777) (FRL-5389-9), EPA promulgated final TSCA section 402/404 regulations governing lead-based paint activities in target housing and child-occupied facilities (a subset of public buildings). These regulations are to ensure that individuals engaged in such activities are properly trained, that training programs are accredited, and that individuals engaged in these activities are certified and follow documented work practice standards.

Under section 404 (15 U.S.C. 2684), a State or Indian Tribe may seek authorization from EPA to administer and enforce its own lead-based paint activities program.

States and Tribes that choose to apply for program authorization must submit a complete application to the appropriate Regional EPA Office for review. EPA will review those applications within 180 days of receipt of the complete application. To receive EPA approval, a State or Tribe must demonstrate that its program is at least as protective of human health and the environment as the Federal program, and provides for adequate enforcement (section 404(b) of TSCA, 15 U.S.C. 2684 (b)).

EPA's regulations (40 CFR part 745, subpart Q) provide the detailed requirements a State or Tribal program must meet in order to obtain EPA authorization.

A State may choose to certify that its lead-based paint activities program meets the requirements for EPA authorization, by submitting a letter signed by the Governor or the Attorney General stating that the program meets the requirements of section 404(b) of TSCA. Upon submission of such certification letter, the program is deemed authorized until such time as EPA disapproves the program application or withdrawals the program authorization.

In accordance with 40 CFR 745.324(d), “Program Certification,” the Governor of Washington submitted a self-certification letter to the EPA Administrator on June 17, 2004, certifying that the State program meets the requirements contained in 40 CFR 745.324(e)(2)(i) and (e)(2)(ii). Included in the application was a letter from the Attorney General of Washington, certifying that the laws and regulations of the State provided adequate legal authority to administer and enforce TSCA section 402.

As determined by EPA's review and assessment, Washington's application successfully demonstrated that the State's Lead-Based Paint Activities Program achieves the protectiveness and enforcement criteria, as required for Federal authorization. Therefore, as of June 10, 2004 the State of Washington is authorized to administer and enforce the lead-based paint program under TSCA section 402.

II. Federal Overfiling

TSCA section 404(b) (15 U.S.C. 2684(b)) makes it unlawful for any person to violate, or fail or refuse to comply with, any requirement of an approved State or Tribal program. Therefore, EPA reserves the right to exercise its enforcement authority under TSCA against a violation of, or a failure or refusal to comply with, any requirement of an authorized State or Tribal program.

III. Withdrawal of Authorization

Pursuant to TSCA section 404(c), the Administrator may withdraw a State or Tribal lead-based paint activities program authorization, after notice and opportunity for corrective action, if the program is not being administered or enforced in compliance with standards, regulations, and other requirements established under the authorization. The procedures EPA will follow for the withdrawal of an authorization are found at 40 CFR 745.324(i).

IV. Congressional Review Act

The Congressional Review Act, 5 U.S.C. 801 as amended by the Small Business Regulatory Enforcement Fairness Act of 1996, generally provides that before certain actions may take effect, the agency promulgating the action must submit a report, which includes a copy of the action, to each House of the Congress and to the Comptroller General of the United States. EPA will submit a report containing this action and other required information to the U.S. Senate, the U.S. House of Representatives, and the Comptroller General of the United States prior to publication of this document in the Federal Register.

This action is not a “major rule” as defined by 5 U.S.C. 804(2).

List of Subjects

Environmental protection, Hazardous substances, Lead, Reporting and recordkeeping requirements.

Dated: June 10, 2005.
Julie Hagensen,
Acting Regional Administrator, Region 10.

[FR Doc. 05-12202 Filed 6-20-05; 8:45 am]

BILLING CODE 6560-50-P